ENVIRONMENTAL PROTECTION AGENCY

[EPA-HQ-OAR-2006-0894; FRL-10000-71-OMS]

Information Collection Request Submitted to OMB for Review and Approval; Comment Request; Registration of Fuels and Fuel Additives: Requirements for Manufacturers (Renewal)

AGENCY: Environmental Protection Agency (EPA).

ACTION: Notice.

SUMMARY: The Environmental Protection Agency (EPA) has submitted an information collection request (ICR), Registration of Fuels and Fuel Additives: Requirements for Manufacturers (EPA ICR Number 0309.16, OMB Control Number 2060-0150) to the Office of Management and Budget (OMB) for review and approval in accordance with the Paperwork Reduction Act (PRA). This is a proposed extension of the ICR, which is currently approved through January 31, 2020. Public comments were previously requested via the Federal Register on April 12, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 26, 2019.

ADDRESSES: Submit your comments, referencing Docket ID No. EPA-HQ-OAR-2006-0894, to (1) EPA online using www.regulations.gov (our preferred method), by email to a-and-r-docket@epa.gov, or by mail to: EPA Docket Center, Environmental Protection Agency, Mail Code 28221T, 1200 Pennsylvania Ave. NW, Washington, DC 20460, and (2) OMB via email to oria_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, Mail Code 6405A, Environmental Protection Agency, 1200 Pennsylvania Ave. NW, Washington, DC 20460; telephone number: (202) 343-9303; fax number: (202) 343-2801; email address: caldwell.jim@epa.gov.

SUPPLEMENTARY INFORMATION: Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In accordance with the regulations at 40 CFR part 79, subparts A, B, C, and D, Registration of Fuels and Fuel Additives, manufacturers (including importers) of motor-vehicle gasoline, motor-vehicle diesel fuel, and additives for those fuels, are required to have these products registered by EPA prior to their introduction into commerce. Registration involves providing a chemical description of the fuel or additive, and certain technical, marketing, and health-effects information. The development of health-effects data, as required by 40 CFR 79, Subpart F, is covered by a separate information collection. Manufacturers are also required to submit periodic reports (annually for additives, quarterly and annually for fuels) on production volume and related information. The information is used to identify products whose evaporative or combustion emissions may pose an unreasonable risk to public health, thus meriting further investigation and potential regulation. The information is also used to ensure that fuel additives comply with EPA requirements for protecting catalytic converters and other automotive emission controls. The data have been used to construct a comprehensive data base on fuel and additive composition. The Mine Safety and Health Administration of the Department of Labor restricts the use of diesel additives in underground coal mines to those registered by EPA. Most of the information is business confidential.

Form Numbers: EPA Forms 3520-12, 3520-12A, 3520-12Q, 3520-13, 3520-13A, and 3520-13B.

Respondents/affected entities: Manufacturers and importers of motor-vehicle gasoline, motor-vehicle diesel fuel, and additives to those fuels.

Respondents obligation to respond: Mandatory per 40 CFR part 79.

Estimated number of respondents: 10,700.

Frequency of response: On occasion, quarterly, annually.

Total estimated burden: 22,550 hours per year. Burden is defined at 5 CFR 1320.03(b).

Total estimated cost: $2,308,500 million per year, includes $53,500 annualized capital or operation and maintenance costs.

Changes in estimates: There is an increase of 1,550 hours in the total estimated respondent burden compared with the ICR currently approved by OMB. This increase is due to an increase in the number of registered fuels and fuel additives for which periodic reports are required.

Courtney Kerwin,
Director, Regulatory Support Division.

[FR Doc. 2019-25591 Filed 11-25-19; 8:45 am]

BILLING CODE 6560-50-P